COMMITTEE FOR PURCHASE FROM PEOPLE WHO ARE BLIND OR SEVERELY DISABLED

Procurement List; Proposed Addition and Deletions

AGENCY: Committee for Purchase From People Who Are Blind or Severely Disabled.

ACTION: Proposed addition to and deletions from the Procurement List.

SUMMARY: The Committee is proposing to add a service to the Procurement List that will be provided by a nonprofit agency employing persons who are blind or have other severe disabilities, and deletes products previously furnished by such agencies.

DATES: Comments must be received on or before: March 4, 2018.

ADDRESSES: Committee for Purchase From People Who Are Blind or Severely Disabled, 1401 S Clark Street, Suite 715, Arlington, Virginia 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Addition

If the Committee approves the proposed addition, the entities of the Federal Government identified in this notice will be required to provide the service listed below from a nonprofit agency employing persons who are blind or have other severe disabilities.

The following service is proposed for addition to the Procurement List for production by the nonprofit agency listed:

Service

Service Type: Base Supply Center Service

Mandatory for: U.S. Air Force, Air Education and Training Command, Sheppard Air Force Base, 206 J Avenue, Sheppard AFB, TX

Mandatory Source of Supply: Beacon Lighthouse, Inc., Wichita Falls, TX

Contracting Activity: Dept of the Air Force, FA3020 82 CONS LGC

Deletions

The following products are proposed for deletion from the Procurement List:

Products

NSNs—Product Names:

7125-00-R10-0001—Lewis & Clark Discovery Box (Lightweight Box)

7125-00-R10-0002—Lewis & Clark Discovery Box (Cabbage Box)

Mandatory Source of Supply: Development Workshop, Inc., Idaho Falls, ID

Contracting Activity: W071 ENDIST PORTLAND

NSN—Product Name: 5340-01-248-2119—Strap, Webbing

Mandatory Source of Supply: Huntsville Rehabilitation Foundation, Huntsville, AL

Contracting Activity: Defense Logistics Agency Troop Support

NSN(s)—Product Name: 5680-01-227-7577—Weather Strip

Mandatory Source of Supply: Huntsville Rehabilitation Foundation, Huntsville, AL

Contracting Activity: W4T8 USASMDC HUNTSVILLE

NSN—Product Name: 7510-00-NIB-0464—Pencil, Mechanical

Mandatory Source of Supply: Industries for the Blind, Inc., West Allis, WI

Contracting Activity: Department of Commerce

NSNs—Product Names:

7510-01-580-0849—Refill, 12 Lead Cartridge, 0.7 mm HB

7510-01-580-0850—Refill, 12 Lead Cartridge, 0.5mm HB

7520-01-580-0847—Pencil, Mechanical, .7 MM HB Lead

7520-01-580-0848—Pencil, Mechanical, .5 MM HB Lead

Mandatory Source of Supply: San Antonio Lighthouse for the Blind, San Antonio, TX

Contracting Activity: General Services Administration, New York, NY

NSNs—Product Names:

6515-01-364-8553—Gloves, Exam, Disposable, Powdered, Latex, Medium, Natural Color

6515-01-364-8554—Gloves, Exam, Disposable, Powdered, Latex, Large, Natural Color

6515-01-365-6183—Gloves, Exam, Disposable, Powdered, Latex, Small, Natural Color

Mandatory Source of Supply: BOSMA Enterprises, Indianapolis, IN

Contracting Activity: Defense Logistics Agency Troop Support

Patricia Briscoe,
Deputy Director, Business Operations, (Pricing and Information Management).

[FR Doc. 2018-02109 Filed 2-1-18; 8:45 am]

BILLING CODE 6353-01-P